DEPARTMENT OF ENERGY

Federal Energy Regulatory Commission

[Docket No. RP05-369-000]

Transcontinental Gas Pipe Line Corporation; Notice of Proposed Changes in FERC Gas Tariff

June 10, 2005.

Take notice that on June 7, 2005 Transcontinental Gas Pipe Line Corporation (Transco) tendered for filing pro forma Tariff Sheet No. 33B to its FERC Gas Tariff, Third Revised Volume No. 1 to reflect, on a pro forma basis, the removal of the South Timbalier Block 300/301 and the South Timbalier Block 301 points from the list of gathering points included in Transco's FERC Gas Tariff.

Transco states that the instant filing originates from an agreement between Transco and Shell Offshore, Inc. (SOI), under which Transco will sell to SOI the South Timbalier Block 300 “A” dehydration facility, a facility which constitutes the basis for Transco's imposition of a gathering rate applicable to volumes traversing the South Timbalier Block 300/301 and the South Timbalier Block 301 points.

Transco states that the pro forma tariff sheet is proposed to be effective on the date of the sale of the facilities to SOI, which is the day following the date that a FERC order accepting and approving the instant filing becomes no longer subject to rehearing or judicial review under Section 19 of the Natural Gas Act.

Transco states that it is serving copies of the instant filing to its affected customers, interested State Commissions and other interested parties.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of Section 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-3114 Filed 6-16-05; 8:45 am]

BILLING CODE 6717-01-P